SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: June 1-30, 2016.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, being rescinded for the consumptive use of water pursuant to the Commission's approval by rule process set forth in 18 CFR 806.22(e) and § 806.22(f) for the time period specified above:

Rescinded ABR Issued

1. Seneca Resources Corporation, Pad ID: Gamble Pad C, ABR-201506006, Gamble Township, Lycoming County, Pa.; Rescind Date: June 15, 2016.

2. Atlas Resources, LLC, Pad ID: Perry Well Pad, ABR-201201019, Mill Creek Township, Lycoming County, Pa.; Rescind Date: June 15, 2016.

3. Atlas Resources, LLC, Pad ID: Stubler Pad B, ABR-201307006, Gamble Township, Lycoming County, Pa.; Rescind Date: June 15, 2016.

4. EOG Resources, Inc., Pad ID: GHFC Pad A, ABR-201110030, Lawrence Township, Clearfield County, Pa.; Rescind Date: June 15, 2016.

5. EOG Resources, Inc., Pad ID: GHFC Pad B, ABR-201110029, Lawrence Township, Clearfield County, Pa.; Rescind Date: June 15, 2016.

6. EOG Resources, Inc., Pad ID: GHFC Pad D, ABR-201203009, Goshen Township, Clearfield County, Pa.; Rescind Date: June 15, 2016.

7. Anadarko E&P Onshore, LLC, Pad ID: COP Tr 244 #1000H, ABR-20090927.R1, Rush Township, Centre County, Pa.; Rescind Date: June 16, 2016.

8. Anadarko E&P Onshore, LLC, Pad ID: COP Tr 244 #1001H & #1002H, ABR-20090928.R1, Rush Township, Centre County, Pa.; Rescind Date: June 16, 2016.

9. Anadarko E&P Onshore, LLC, Pad ID: COP Tr 342 D, ABR-20100349.R1, Beech Creek Township, Clinton County, Pa.; Rescind Date: June 16, 2016.

10. Anadarko E&P Onshore, LLC, Pad ID: COP Tr 344 Pad B, ABR-201008019.R1, Grugan Township, Clinton County, Pa.; Rescind Date: June 16, 2016.

11. Anadarko E&P Onshore, LLC, Pad ID: Tx Gulf B #2H & #3H, ABR-20090823.R1, Beech Creek Township, Clinton County, Pa.; Rescind Date: June 16, 2016.

12. Anadarko E&P Onshore, LLC, Pad ID: Williams S. Kieser Pad A, ABR-201011046.R1, Cogan House Township, Lycoming County, Pa.; Rescind Date: June 16, 2016.

13. American Energy—Marcellus, LLC, Pad ID: Sooner Magic 1, ABR-201412001, Union Township, Huntingdon County, Pa.; Rescind Date: June 29, 2016.

14. SWN Production Company, LLC, Pad ID: WY 03 LUMBER PAD, ABR-201401005, Tunkhannock Township, Wyoming County, Pa.; Rescind Date: June 29, 2016.

15. SWN Production Company, LLC, Pad ID: WY 05 DZIUBA BENJAMIN PAD, ABR-201402003, Eaton Township, Wyoming County, Pa.; Rescind Date: June 29, 2016.

16. SWN Production Company, LLC, Pad ID: FRIES Pad, ABR-201112033, Lenox Township, Susquehanna County, Pa.; Rescind Date: June 29, 2016.

17. SWN Production Company, LLC, Pad ID: WY 02 HARDING PAD, ABR-201402007, Tunkhannock Township, Wyoming County, Pa.; Rescind Date: June 29, 2016.

18. SWN Production Company, LLC, Pad ID: Malling Well Pad, ABR-201208017, Silver Lake Township, Susquehanna County, Pa.; Rescind Date: June 29, 2016.

19. SWN Production Company, LLC, Pad ID: Nota Well Pad, ABR-201210019, Franklin Township, Susquehanna County, Pa.; Rescind Date: June 29, 2016.

20. SWN Production Company, LLC, Pad ID: TI-03 Porter Dennis—Pad, ABR-201403001, Union Township, Tioga County, Pa.; Rescind Date: June 29, 2016.

21. SWN Production Company, LLC, Pad ID: WHENGREEN, ABR-201111033, Lenox Township, Susquehanna County, Pa.; Rescind Date: June 29, 2016.

Authority: Pub. L. 91-575, 84 Stat. 1509 et seq., 18 CFR parts 806, 807, and 808.

Dated: July 28, 2016.
Stephanie L. Richardson,
Secretary to the Commission.

[FR Doc. 2016-18268 Filed 8-1-16; 8:45 am]

BILLING CODE 7040-01-P